DEPARTMENT OF LABOR

Occupational Safety and Health Administration

Agency Information Collection Activities: Announcement of the Office of Management and Budget (OMB) Control Numbers Under the Paperwork Reduction Act

AGENCY: Occupational Safety and Health Administration (OSHA), Labor.

ACTION: Notice; announcement of OMB approval of information collection requirements.

SUMMARY: The Occupational Safety and Health Administration announces that OMB extended its approval for a number of information collection requirements found in sections of 29 CFR parts 1910, 1915, and 1926. OSHA sought approval of these requirements under the Paperwork Reduction Act of 1995 (PRA-95), and, as required by that Act, is announcing the approval numbers and expiration dates for these requirements. In addition, OSHA announces that OMB approved a revision to the Recordkeeping and Reporting Occupational Injuries and Illnesses (29 CFR part 1904) Information Collection Request (ICR) (paperwork package) and the collection of information requirements contained in the Electric Power Generation, Transmission and Distribution Standard for Construction and General Industry and Electrical Protective Equipment for Construction and General Industry final rule.

DATES: This notice is effective March 17, 2015.

FOR FURTHER INFORMATION CONTACT: Theda Kenney or Todd Owen, Directorate of Standards and Guidance, Occupational Safety and Health Administration, U.S. Department of Labor, Room N-3609, 200 Constitution Avenue NW., Washington, DC 20210, telephone: (202) 693-2222.

SUPPLEMENTARY INFORMATION: In a series of Federal Register notices, the Agency announced its requests to OMB to renew its current extensions of approvals for various information collection (paperwork) requirements in its safety and health standards pertaining to, general industry, shipyard employment, and the construction industry (i.e., 29 CFR parts 1910, 1915, and 1926), Notice of Alleged Safety and Health Hazards (Form OSHA-7), Occupational Safety and Health Administration Grantee Quarterly Progress Report, and Voluntary Protection Program Information. In these Federal Register announcements, the Agency provided 60-day comment periods for the public to respond to OSHA's burden hour and cost estimates.

Also, OSHA submitted two ICRs to OMB in conjunction with two final rulemakings: Electric Power Generation, Transmission and Distribution Standard for Construction and General Industry and Electrical Protective Equipment for Construction and General Industry; and the Occupational Injury and Illness Recording and Reporting Requirements—NAICS Update and Reporting Revisions final rule.

In accordance with PRA-95 (44 U.S.C. 3501-3520), OMB approved these information collection requirements. The table below provides the following information for each of these information collection requirements approved by OMB: The title of the Federal Register notice; the Federal Register reference (date, volume, and leading page); OMB's Control Number; and the new expiration date.

Title of the information collection request | Date of Federal Register publication, Federal Register reference, and OSHA Docket No. | OMB Control No. | Expiration date
Anhydrous Ammonia Storage and Handling Standard (29 CFR 1910.111) | December 26, 2013, 78 FR 78393, Docket No. 2010-0050 | 1218-0208 | 07/31/2017
Concrete and Masonry Construction Standard (29 CFR part 1926, subpart Q) | January 31, 2014, 79 FR 5461, Docket No. 2010-0040 | 1218-0095 | 06/30/2017
Construction Standards on Posting Emergency Telephone Numbers and Floor Load Limits (29 CFR 1926.50 and 1926.250) | June 10, 2014, 79 FR 33216, Docket No. 2011-0032 | 1218-0093 | 12/31/2017
Electric Power Generation, Transmission and Distribution Standard for Construction and General Industry and Electrical Protective Equipment for Construction and General Industry | April 11, 2014, 79 FR 20316, Docket No. S215-2006-0063 | 1218-0253 | 07/31/2017
Ethylene Oxide (EtO) Standard (29 CFR 1910.1047) | January 24, 2014, 79 FR 4178, Docket No. 2009-0035 | 1218-0108 | 06/30/2017
Excavations (Design of Cave-in Protection Systems) (29 CFR part 1926, subpart P) | July 30, 2014, 79 FR 44199, Docket No. 2011-0057 | 1218-0137 | 02/28/2018
Fire Brigades (29 CFR 1910.156) | May 23, 2014, 79 FR 29803, Docket No. 2011-0009 | 1218-0075 | 10/31/2017
Fire Protection in Shipyard Employment Standard (29 CFR part 1915, subpart P) | May 2, 2014, 79 FR 25153, Docket No. 2010-0010 | 1218-0248 | 10/31/2017
Gear Certification Standard (29 CFR part 1919) | January 24, 2014, 79 FR 4182, Docket No. 2010-0042 | 1218-0003 | 07/31/2017
General Working Conditions in Shipyard Employment Standard (29 CFR part 1915, subpart F) | August 22, 2014, 79 FR 49819, Docket No. 2014-0021 | 1218-0259 | 02/28/2018
Grain Handling Facilities Standard (29 CFR 1910.272) | February 7, 2014, 79 FR 7479, Docket No. 2011-0028 | 1218-0206 | 10/31/2017
Hazardous Energy Control Standard (Lockout/Tagout) (29 CFR 1910.147) | April 2, 2014, 79 FR 18583, Docket No. 2011-0033 | 1218-0150 | 01/31/2018
Hydrostatic Testing Provision of the Standard on Portable Fire Extinguishers (29 CFR 1910.157(f)(16)) | November 25, 2013, 78 FR 70324, Docket No. 2010-0025 | 1218-0218 | 07/31/2017
Ionizing Radiation Standard (29 CFR 1910.1096) | April 1, 2014, 79 FR 18318, Docket No. 2010-0030 | 1218-0103 | 10/31/2017
Logging Operations Standard | December 5, 2013, 78 FR 73206, Docket No. 2010-0041 | 1218-0198 | 06/30/2017
Manlifts Standard (29 CFR 1910.68(e)) | December 26, 2013, 78 FR 78396, Docket No. 2010-0051 | 1218-0226 | 07/31/2017
Material Hoists, Personnel Hoists, and Elevators (29 CFR 1926.552) | June 19, 2014, 79 FR 35187, Docket No. 2010-0052 | 1218-0231 | 10/31/2017
Notice of Alleged Safety and Health Hazards (Form OSHA-7) | January 24, 2014, 79 FR 4180, Docket No. 2010-0064 | 1218-0064 | 08/31/2017
Occupational Safety and Health Administration Grantee Quarterly Progress Report | January 9, 2014, 79 FR 1658, Docket No. 2010-0021 | 1218-0100 | 08/31/2017
Overhead and Gantry Cranes Standard (29 CFR 1910.179) | November 14, 2013, 78 FR 68477, Docket No. 2010-0023 | 1218-0224 | 07/31/2017
Portable Fire Extinguishers Standard (Annual Maintenance Certification Record) (29 CFR 1910.157(e)(3)) | December 10, 2013, 78 FR 74167, Docket No. 2010-0039 | 1218-0238 | 7/31/2017
Powered Industrial Trucks Standard (29 CFR 1910.178) | May 9, 2014, 79 FR 26776, Docket No. 2011-0062 | 1218-0242 | 01/31/2018
Powered Platforms for Building Maintenance Standard (29 CFR 1910.66) | February 18, 2014, 79 FR 9282, Docket No. 2010-0048 | 1218-0121 | 09/30/2017
Recordkeeping and Reporting Occupational Injuries and Illnesses (29 CFR Part 1904) Final Rule—Occupational Injury and Illness Recording and Reporting Requirements—NAICS Update and Reporting Revisions | September 18, 2014, 79 FR 56130, Docket No. 2010-0019 | 1218-0176 | 01/31/2018
Rigging Equipment for Material Handling (29 CFR 1926.251) | November 25, 2013, 78 FR 70326, Docket No. 2010-0038 | 1218-0233 | 07/31/2017
Steel Erection Standard (29 CFR part 1926, subpart R) | June 19, 2014, 79 FR 35189, Docket No. 2011-0055 | 1218-0241 | 12/31/2017
Underground Construction Standard (29 CFR 1926.800) | April 7, 2014, 79 FR 19125, Docket No. 2011-0029 | 1218-0067 | 08/31/2017
Voluntary Protection Program Information | June 30, 2014, 79 FR 36834, Docket No. 2011-0056 | 1218-0239 | 01/31/2018

In accordance with 5 CFR 1320.5(b), an agency cannot conduct, sponsor, or require a response to a collection of information unless the collection displays a valid OMB control number and the agency informs respondents that they need not respond to the collection of information unless it displays a valid OMB control number.

Authority and Signature

David Michaels, Ph.D., MPH, Assistant Secretary of Labor for Occupational Safety and Health, directed the preparation of this notice. The authority for this notice is 44 U.S.C. 3506 et seq. and Secretary of Labor's Order No. 1-2012 (77 FR 3912).

Signed at Washington, DC, on March 11, 2015.
David Michaels,
Assistant Secretary of Labor for Occupational Safety and Health.

[FR Doc. 2015-06001 Filed 3-16-15; 8:45 am]

BILLING CODE 4510-26-P